DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of September and October, 2002.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm or sub-division have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-40,530; Adcap-Dunn Manufacturing Co., Camp Hill, AL

TA-W-41,041A; United Central Industrial Supply Co. LLC, Virginia Machine Tool Co., Bassett, VA

TA-W-41,792; J.B. Tool and Machine, Inc., Wapakoneta, OH

TA-W-41,975; Versa Tool, Meadville, PA

TA-W-41,208 & A; Valeo Climate Control, USA-2 Div., Automotive Air Conditioning Condenser Line, Grand Prairie, TX and Aluminum Tubing Line, Grand Prairie, TX

TA-W-41,844; Terex Mining Manufacturing Facility, Tulsa, OK

TA-W-41,890; Kaman Aerospace Microwave Cable Assembly Div., Middletown, CT

TA-W-41,947; Pella Plastic, Plant #3, New Hope, TN

TA—W-42,040; Lockheed Martin Distribution Technologies, Inc., Tulsa, OK

TA-W-41,796; Tredegar Film Products, Carbondale, PA

In the following cases, the investigation revealed that the criteria for eligibility have not been met for the reasons specified.

Increased imports did not contribute importantly to worker separations at the firm.

TA-W-41,945; ExxonMobil Lubricants and Petroleum Specialties Co., Bakerstown Grease Plant, Gibsonia, PA

TA-W-41,936; Fishking Processors, Inc., Los Angeles, CA

TA-W-41,769; Siemens Demag Delaval, Trenton, NJ

The workers firm does not produce an article as required for certification under section 222 of the Trade Act of 1974.

TA-W-42,027; NCS Learn, East Lansing, MI

TA-W-42,036; Electronic Data Systems Corp., I Solutions Center, Fairborn, OH

TA-W-41,041; United Central Industrial Supply Co, LLC, Blue Ridge Industrial Supply Co., Bassett, VA

TA-W-41,950; International Data LLC, Data-Capture Div., El Paso, TX

TA-W-41,850; Global Apparel, LLC, New York, NY

The investigation revealed that criteria (1) has not been met. A significant number or proportion of the workers did not become totally or partially separated from employment as required for certification.

TA-W-41,929; MEL, Inc., Winchester, MA

The investigation revealed that criteria (2) has not been met. Sales or production did not decline during the relevant period as required for certification.

TA-W-42,021; Bronxwood Dyeing Co., Inc., Bronx, NY

TA-W-41,876; Meggitt Avionics, a Wholly Owned Subsidiary of Meggitt PLC, Manchester, NH

Affirmative Determinations for Worker Adjustment Assistance

The following certifications have been issued; the date following the company name and location of each determination references the impact date for all workers of such determination.

TA-W-42,060; United Sweater Mills Corp., Jersey City, NJ: August 20, 2001

TA-W-42,017; Motorola, Tempe Final Manufacturing (TFM), Tempe, AZ: August 6, 2001

TA-W-42,002; Metso Minerals, Inc., Clintonville, WI: August 6, 2001

TA-W-41,866; Ingersoll-Rand Co., Rock Drill Div., Roanoke, VA: August 16, 2002

TA-W-41,857; DMI Furniture, Inc, Huntingburg, IN: June 24, 2001

TA-W-41,605; Bemis Manufacturing Co., Crandon Woodworking Div., Crandon, WI: April 16, 2001

TA-W-41,599; Clearfield Machine Co., Clearfield, PA: May 20, 2001

TA-W-41,556; Fedders Appliances, Effingham, IL: January 8, 2002

TA-W-41,481; Siemens Energy and Automation, Inc., Power Distribution Infrastructure and Controls Div., Bellefontaine, OH: April 25, 2001

TA-W-40,621; General Electric Co (GE), Transportation Systems Div., Global Signaling, Warrensburg, MO: November 19, 2000

TA-W-42,048; Fashion Tanning Co., Inc., Gloversville, NY: August 12, 2001

TA-W-42,028; Loretex Corp., Guilderland Center, NY: August 8, 2001

TA-W-42,024; McInnes Steel Co., Corry, PA: July 23, 2001

TA-W-42,019; Encon Eye Protection, a Subsidiary of Encon Corp., Coudersport, PA: August 8, 2001

TA-W-42,009; Storage Tek, MAT-FRU Operation, Louisville, CO: July 31, 2001

TA-W-41,999; New Holland Industries, Inc., New Holland, PA: August 6, 2001

TA-W-41,993; Philips Semiconductors, a Subsidiary of Royal Philips Electronics, NV, Albuquerque, NM: August 5, 2001

TA-W-41,974; Amerock Corp., Rockford, IL: July 23, 2001

TA-W-41,968; Crown Cork and Seal Co., Inc., Portland, OR: August 1, 2001

TA-W-41,918; Unilever Best Foods North America, Santa Cruz, CA: July 24, 2001

TA-W-41,917; The Pfaltzgraff Co., Also Known as Susquehanna Pfaltzgraff, York, PA: July 12, 2001

TA-W-41,901; Johnson and Johnson Apparel, Inc., Kenly, NC: July 11, 2001

TA-W-41,874 & A, B; Sebago, Inc., Bridgton, ME, Westbrook, ME and Gorham, ME: September 19, 2002

TA-W-41,867 & A; Tee Jays Manufacturing Co., Inc., Plant 7, Florence, AL and Plant 17, Florence, AL: July 2, 2001

TA-W-41,716; Motorola, Inc, Global Telecom Solutions Sector (GTSS), Cellular Infrastructure Group, Fort Worth, TX: May 21, 2001

TA-W-41,706; Henry's Cutting Service, Hialeah, FL: May 10, 2001

TA-W-41,534; 3M Center, Coated Abrasives and Industrial Tape Div., St. Paul, MN: April 22, 2001

Also, pursuant to Title V of the North American Free Trade Agreement Implementation Act (Pub. L. 103-182) concerning transitional adjustment assistance hereinafter called (NAFTA-TAA) and in accordance with section 250(a), subchaper D, chapter 2, Title II, of the Trade Act as amended, the Department of Labor presents summaries of determinations regarding eligibility to apply for NAFTA-TAA issued during the months of September and October, 2002.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05788A; United Central Industrial Supply Co. LLC, Virginia Machine Tool Co., Bassett, VA

NAFTA-TAA-06310; J.B. Tool and Machine, Inc., Wapakoneta, OH

NAFTA-TAA-06423; ExxonMobil Lubricants and Petroleum Specialties Co., Bakerstown Grease Plant, Gibsonia, PA

NAFTA-TAA-06458; Versa Tool, Inc., Meadville, PA

NAFTA-TAA-06241; Henry's Cutting Service, Hialeah, FL

NAFTA-TAA-06512; Fishking Processors, Inc., Los Angeles, CA

The investigation revealed that the criteria for eligibility have not been met for the reasons specified.

The investigation revealed that workers of the subject firm did not produce an article within the meaning of section 250(a) of the Trade Act, as amended.

NAFTA-TAA-05788; United Central Industrial Supply Co, LLC, Blue Ridge Industrial Supply Co., Bassett, VA

NAFTA-TAA-06434; International Data LLC, Data-Capture, El Paso, TX

NAFTA-TAA-06474; Yakima Products, Inc., d/b/a Watermark, Materials Department, Arcata, CA

The investigation revealed that criteria (1) has not been met. Sales or production did not decline during the relevant period as required for certification.

NAFTA-TAA-6415; Mel, Inc., Winchester, MA

Affirmative Determinations NAFTA-TAA

NAFTA-TAA-06468; TI Automotive Systems, Sanford Div., Sanford Div., Sanford, FL: August 16, 2001

NAFTA-TAA-06493; United Sweater Mills, Corp., Jersey City, NJ: August 23, 2001

NAFTA-TAA-06525; Perfection-Schwank, Inc., Waynesboro, GA: September 5, 2001

NAFTA-TAA-06027; TLD Lantis Corp., a Subsidiary of Teleflex Lionel-DuPont (TLD), Salinas, CA: March 21, 2001

NAFTA-TAA-06389; Federal-Mogul Corp., Friction Products Div., Winchester, VA: July 19, 2001

NAFTA-TAA-06488; Kimberly-Clark Corp., Neenah Cold Springs Facility, Neenah, WI: August 22, 2001

NAFTA-TAA-06397; Johnson and Johnson Apparel, Inc., Kenly, NC: July 11, 2001

I hereby certify that the aforementioned determinations were issued during the months of September and October, 2002. Copies of these determinations are available for inspection in Room C-5311, U.S. Department of Labor, 200 Constitution Avenue, NW., Washington, DC 20210 during normal business hours or will be mailed to persons who write to the above address.

Dated: October 8, 2002.
Edward A. Tomchick
Director, Division of Trade Adjustment Assistance.

[FR Doc. 02-26741 Filed 10-21-02; 8:45 am]

BILLING CODE 4510-30-P